FEDERAL COMMUNICATIONS COMMISSION

Open Commission Meeting, Thursday, September 29, 2016; Sunshine Period Prohibition Lifted for Expanding Consumers' Video Navigation Choices; Commercial Availability of Navigation Devices

October 6, 2016.

The Federal Communications Commission deleted the following agenda item from the list of items scheduled for consideration at the Thursday, September 29, 2016, Open Meeting (81 FR 66963, September 29, 2016). Pursuant to 47 CFR 1.1200(a), the item remained under the sunshine period prohibition in 47 CFR 1.1203 until further notice.

This public notice establishes that the sunshine restrictions applicable to the item below are hereby lifted. The item remains subject to the ex parte rules governing permit-but-disclose proceedings in 47 CFR 1.1206.

TITLE: Expanding Consumers' Video Navigation Choices (MB Docket No. 16-42); Commercial Availability of Navigation Devices (CS Docket No. 97-80).

SUMMARY: The Commission will consider a Report and Order that modernizes the Commission's rules to allow consumers to use a device of their choosing to access multichannel video programming instead of leasing devices from their cable or satellite providers.

Federal Communications Commission.
Gloria J. Miles,
Federal Register Liaison Officer, Office of the Secretary.

[FR Doc. 2016-24781 Filed 10-12-16; 8:45 am]

BILLING CODE 6712-01-P